U.S. SMALL BUSINESS ADMINISTRATION

Annual Meeting of the Regional Small Business Regulatory Fairness Boards Office of the National Ombudsman

AGENCY: U.S. Small Business Administration (SBA).

ACTION: Notice of open meeting of the Regional Small Business Regulatory Fairness Boards.

SUMMARY: The SBA, Office of the National Ombudsman is issuing this notice to announce the location, date, time and agenda for the annual board meeting of the ten Regional Small Business Regulatory Fairness Boards (RegFair Boards). The meeting is open to the public.

DATES: The meeting will be held on the following dates: Monday, August 19, 2013 from 8:30 a.m. to 5:00 p.m. EST and on Tuesday, August 20, 2013 from 8:30 a.m. to 3:30 p.m. EST.

ADDRESSES: The meeting will be at the Holiday Inn, 550 C Street SW., Washington, DC 20024, in the Discovery I Conference Room located on the 1st Floor.

FOR FURTHER INFORMATION CONTACT: The meeting is open to the public; however advance notice of attendance is requested. Anyone wishing to attend and/or make a presentation to the Regulatory Fairness Boards must contact Yolanda Swift, Acting National Ombudsman for Regulatory Enforcement Fairness, Office of the National Ombudsman, 409 3rd Street SW., Suite 7125, Washington, DC 20416 by August 16, 2013 by fax or email in order to be placed on the agenda, by phone (202) 205-6918, fax (202) 401-6128 or email Yolanda.swift@sba.gov.

Additionally, if you need accommodations because of a disability or require additional information, please contact José Méndez, Case Management Specialist, Office of the National Ombudsman, 409 3rd Street SW., Suite 7125, Washington, DC 20416, phone (202) 205-6178, fax (202) 401-2707, email jose.mendez@sba.gov.

For more information on the Office of the National Ombudsman, please visit our Web site at www.sba.gov/ombudsman.

SUPPLEMENTARY INFORMATION: Pursuant to the Small Business Regulatory Enforcement Fairness Act (Pub. L. 104-121), Sec. 222, SBA announces the meeting of the Regional Regulatory Fairness Boards. The Regional Small Business Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Small Business Regulatory Fairness Boards:

—RegFair Board Member Duties, Responsibilities, and Standards of Conducting Briefing

—Securing Comments and the Comment Process

—Remarks by Esther Vassar, Former National Ombudsman

—Planning for and Logistics of Hearings and Roundtables

—Success by Working Together to Address Regulatory Issues for Small Businesses

—Remarks by Natalia Olson, SBA Region III Regional Administrator

—Remarks by Sara Lipscomb, SBA General Counsel

—Discussion of the Draft Annual Report to Congress and Comments from ONO Team and RegFair Board Members

—Board Member Travel Reimbursement

—Remarks by Dr. Winslow Sargeant, Chief Counsel, SBA Office of Advocacy

—Remarks by Karen Gordon Mills, SBA Administrator

Dated: August 14, 2013.
Christopher R. Upperman,
SBA Committee Management Officer.

[FR Doc. 2013-20297 Filed 8-16-13; 11:15 am]

BILLING CODE P